SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before February 11, 2021.

ADDRESSES: Submit comments by the deadline stated in the DATES section above to:

• www.reginfo.gov/public/do/PRAMain. You can find this information collection by selecting “Currently under Review—Open for Public Comments” and searching by title, “SBA Microloan Program Outcome Evaluation”; and

• Curtis Rich, Agency Clearance Officer, curtis.rich@sba.gov; 202-205-7030

FOR FURTHER INFORMATION CONTACT: Shay Meinzer, Lead Program Evaluator, shay.meinzer@sba.gov; 202-539-1429.

SUPPLEMENTARY INFORMATION: Copies: You may obtain a copy of the information collection and supporting documents from the Agency Clearance Officer or Lead Program Evaluator.

The SBA Microloan Program surveys and interviews will be completed by borrowers and intermediary lenders that participated in the program. Data collected on lending and technical assistance activities, business growth, revenue, job creation, and survival will be used to develop recommendations to improve the program. These data also provide an understanding of the specific ways in which SBA's micro-financing activities contribute to the growth and sustainability of small businesses.

Title: SBA Microloan Program Outcome Evaluation.

OMB Control Number: 3245-TBD (New).

Description of Respondents: Microloan program borrowers and intermediary lenders.

Estimated Annual Responses: 1,006.

Estimated Annual Hour Burden: 2,286.

The public is invited to submit comments regarding any aspect of this information collection, including the following: (1) The necessity and utility of the proposed information collection for the proper performance of the agency's functions; (2) the accuracy of the estimated burden; (3) ways to enhance the quality, utility, and clarity of the information to be collected; and (4) the use of automated collection techniques or other forms of information technology to minimize the information collection burden of those who are required to respond to the request for information.

Curtis Rich,
Management Analyst.

[FR Doc. 2021-00320 Filed 1-11-21; 8:45 am]

BILLING CODE 8026-03-P